DEPARTMENT OF TRANSPORTATION

Federal Aviation Administration

14 CFR Part 39

[Docket No. FAA-2021-0944; Project Identifier MCAI-2020-00800-G; Amendment 39-21925; AD 2022-03-08]

RIN 2120-AA64

Airworthiness Directives; Fiberglas-Technik Rudolf Lindner GmbH & Co. KG (Type Certificate Previously Held by GROB Aircraft AG, Grob Aerospace GmbH i.l., Grob Aerospace GmbH, Burkhart Grob Luft—und Raumfahrt GmbH & Co. KG) Gliders

AGENCY: Federal Aviation Administration (FAA), DOT.

ACTION: Final rule.

SUMMARY: The FAA is adopting a new airworthiness directive (AD) for all Fiberglas-Technik Rudolf Lindner GmbH & Co. KG (type certificate previously held by GROB Aircraft AG, Grob Aerospace GmbH i.l., Grob Aerospace GmbH, Burkhart Grob Luft—und Raumfahrt GmbH & Co. KG) Model G102 ASTIR CS, G103 TWIN ASTIR, G103 TWIN II, G103A TWIN II ACRO, G103C TWIN III ACRO, and G 103 C TWIN III SL gliders. This AD was prompted by mandatory continuing airworthiness information (MCAI) issued by the aviation authority of another country to identify and correct an unsafe condition on an aviation product. The MCAI describes the unsafe condition as corrosion on the elevator control pushrod. This AD requires inspecting the elevator control pushrod for water and corrosion and replacing the pushrod if necessary. The FAA is issuing this AD to address the unsafe condition on these products.

DATES: This AD is effective March 17, 2022.

The Director of the Federal Register approved the incorporation by reference of a certain publication listed in this AD as of March 17, 2022.

ADDRESSES: For service information identified in this final rule, contact Fiberglas-Technik Rudolf Lindner GmbH & Co. KG, Steige 3, D-88487 Walpertshofen, Germany; phone: +49 (0) 7353 22 43; email: info@LTB-Lindner.com; website: https://www.ltb-lindner.com. You may view this service information at the FAA, Airworthiness Products Section, Operational Safety Branch, 901 Locust, Kansas City, MO 64106. For information on the availability of this material at the FAA, call (817) 222-5110. It is also available at https://www.regulations.gov by searching for and locating Docket No. FAA-2021-0944.

Examining the AD Docket

You may examine the AD docket at https://www.regulations.gov by searching for and locating Docket No. FAA-2021-0944; or in person at Docket Operations between 9 a.m. and 5 p.m., Monday through Friday, except Federal holidays. The AD docket contains this final rule, the MCAI, any comments received, and other information. The address for Docket Operations is U.S. Department of Transportation, Docket Operations, M-30, West Building Ground Floor, Room W12-140, 1200 New Jersey Avenue SE, Washington, DC 20590.

FOR FURTHER INFORMATION CONTACT: Jim Rutherford, Aviation Safety Engineer, General Aviation & Rotorcraft Section, International Validation Branch, FAA, 901 Locust, Room 301, Kansas City, MO 64106; phone: (816) 329-4165; email: jim.rutherford@faa.gov.

SUPPLEMENTARY INFORMATION:

Background

The FAA issued a notice of proposed rulemaking (NPRM) to amend 14 CFR part 39 by adding an AD that would apply to all Fiberglas-Technik Rudolf Lindner GmbH & Co. KG Model G102 ASTIR CS, G103 TWIN ASTIR, G103 TWIN II, G103A TWIN II ACRO, G103C TWIN III ACRO, and G 103 C TWIN III SL gliders. The NPRM published in the Federal Register on October 29, 2021 (86 FR 59903). The NPRM was prompted by MCAI originated by the European Union Aviation Safety Agency (EASA), which is the Technical Agent for the Member States of the European Union. EASA issued EASA AD 2020-0138, dated June 19, 2020 (referred to after this as “the MCAI”), to address an unsafe condition on Fiberglas-Technik Rudolf Lindner GmbH & Co. KG Model G102 ASTIR CS, G103 TWIN ASTIR, G103 TWIN II, G103A TWIN II ACRO, G103C TWIN III ACRO, and G 103 C TWIN III SL gliders. The MCAI states:

During a routine inspection, a severely corroded elevator control pushrod was found in the vertical fin on a Grob TWIN ASTIR sailplane. The technical investigation results revealed that water had soaked into the elevator control pushrod, causing the corrosion damage and subsequent considerable weakening of the steel tube pushrod.

This condition, if not detected and corrected, could lead to failure of the elevator control pushrod, possibly resulting in loss of control of the sailplane.

To address this unsafe condition, Fiberglas-Technik R. Lindner GmbH & Co.KG published the [technische mitteilung/service bulletin] TM/SB and [anweisung/instructions] A/I-G09, at original issue, providing instructions for elevator control pushrod inspection and replacement. Prompted by this development, EASA issued AD 2020-0121 to require a one-time inspection of the elevator control pushrod in the vertical fin and, depending on findings, replacement.

After EASA AD 2020-0121 was issued, it was determined that Grob G 103 “TWIN II” sailplanes, and additional Grob G 103 A “TWIN II ACRO” sailplanes, are also prone to elevator control pushrod corrosion and Fiberglas-Technik R.Lindner GmbH & Co.KG issued the TM/SB to make the inspection instructions applicable to these sailplane models.

For the reasons described above, this [EASA] AD retains the requirements of EASA AD 2020-0121, which is superseded, and expands the Applicability.

You may examine the MCAI in the AD docket at https://www.regulations.gov by searching for and locating Docket No. FAA-2021-0944.

Discussion of Final Airworthiness Directive

Comments

The FAA received no comments on the NPRM or on the determination of the costs.

Conclusion

This product has been approved by the aviation authority of another country and is approved for operation in the United States. Pursuant to the FAA's bilateral agreement with this State of Design Authority, it has notified the FAA of the unsafe condition described in the MCAI and service information referenced above. The FAA reviewed the relevant data and determined that air safety requires adopting this AD as proposed. Accordingly, the FAA is issuing this AD to address the unsafe condition on these products. This AD is adopted as proposed in the NPRM.

Related Service Information Under 1 CFR Part 51

The FAA reviewed Fiberglas-Technik Rudolf Lindner Anweisung/Instructions (A/I-G09), Revision 1, dated May 14, 2020. This service information provides instructions to inspect the elevator control pushrod for water and corrosion, replace the elevator control pushrod if any water or corrosion is found, and apply corrosion prevention if no water and no corrosion are found. This service information is reasonably available because the interested parties have access to it through their normal course of business or by the means identified in ADDRESSES.

Other Related Service Information

The FAA also reviewed Fiberglas-Technik Rudolf Lindner Service Bulletin (SB-G09), Revision 1, dated May 14, 2020. This service information refers to the instructions in A/I-G09 to inspect and replace the elevator control pushrod on various gliders.

The FAA reviewed Grob TFE Service Bulletin TM 315-34, dated December 8, 1987. This service information provides effectivity, reason, and high-level instructions for inspecting and replacing the elevator control pushrod on certain Model G 103 A TWIN II ACRO gliders.

The FAA reviewed Grob TFE Repair Instructions No. 315-34 for Service Bulletin TM 315-34, dated December 8, 1987. This service information provides more detailed instructions for inspecting and replacing the elevator control pushrod on certain Model G 103 A TWIN II ACRO gliders.

Differences Between This AD and the MCAI

The MCAI applies to Model ASTIR CS 77, ASTIR CS Jeans, CLUB ASTIR II, STANDARD ASTIR II, TWIN ASTIR TRAINER, GROB G 103 C “TWIN III,” ASTIR CS 77 TOP, ASTIR CS JEANS TOP, and ASTIR CS TOP gliders. This AD does not apply to these model gliders because they do not have an FAA type certificate.

Costs of Compliance

The FAA estimates that this AD affects 149 gliders of U.S. registry. The FAA estimates that it would take about 4 work-hours per glider to inspect the elevator control pushrod and require parts costing $100. The average labor rate is $85 per work-hour. Based on these figures, the FAA estimates the cost to inspect the elevator control pushrod on U.S. operators to be $65,560 or $440 per glider.

In addition, the FAA estimates that for gliders with water or corrosion within the elevator control pushrod, replacement would take about 8 work-hours and require parts costing $500. The average labor rate is $85 per work-hour. Based on these figures, the FAA estimates the cost to replace the elevator control pushrod on U.S. operators to be $1,180 per glider.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government. For the reasons discussed above, I certify that this AD. For the reasons discussed above, I certify this AD.

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-03-08 Fiberglas-Technik Rudolf Lindner GmbH & Co. KG (Type Certificate Previously Held by GROB Aircraft AG, Grob Aerospace GmbH i.l., Grob Aerospace GmbH, Burkhart Grob Luft—und Raumfahrt GmbH & Co. KG): Amendment 39-21925; Docket No. FAA-2021-0944; Project Identifier MCAI-2020-00800-G.

(a) Effective Date

This airworthiness directive (AD) is effective March 17, 2022.

(b) Affected ADs

None.

(c) Applicability

This AD applies to the following gliders, all serial numbers, certificated in any category:

(1) Fiberglas-Technik Rudolf Lindner GmbH & Co. KG (type certificate previously held by GROB Aircraft AG, Grob Aerospace GmbH i.l., Grob Aerospace GmbH, Burkhart Grob Luft—und Raumfahrt GmbH & Co. KG, GROB TFE, GROB-WERKE GMBH & CO KG (a division of Burkhart Grob Flugzeugbau)) Model G102 ASTIR CS.

(2) Fiberglas-Technik Rudolf Lindner GmbH & Co. KG (type certificate previously held by GROB Aircraft AG, Grob Aerospace GmbH i.l., Grob Aerospace GmbH, Burkhart Grob Luft—und Raumfahrt GmbH & Co. KG) Model G103 TWIN ASTIR, G103 TWIN II, G103A TWIN II ACRO, G103 C TWIN III ACRO, and G 103 C TWIN III SL.

(d) Subject

Joint Aircraft System Component (JASC) Code 2730, Elevator Control System.

(e) Unsafe Condition

This AD was prompted by mandatory continuing airworthiness information (MCAI) issued by the aviation authority of another country to identify and correct an unsafe condition on an aviation product. The MCAI describes the unsafe condition as corrosion on the elevator control pushrod. The unsafe condition, if not addressed, could result in failure of the elevator control pushrod and loss of control of the glider.

(f) Compliance

Comply with this AD within the compliance times specified, unless already done.

(g) Required Actions

(1) Within 25 hours time in service (TIS) after the effective date of this AD, inspect the elevator control pushrod in the vertical fin for water and corrosion and replace the elevator control pushrod before further flight if there is any water or corrosion in accordance with the Actions and Instructions, paragraph 3, of Fiberglas-Technik Rudolf Lindner Anweisung/Instructions (A/I-G09), Revision 1, dated May 14, 2020.

(2) If no water and no corrosion is detected, before further flight, treat the inside of the elevator control pushrod with corrosion preventative LPS 3 or equivalent.

(3) If required by paragraph (g)(1) of this AD, you must replace the elevator control pushrod before further flight with an elevator control pushrod that has zero hours TIS or with an elevator control pushrod that has passed the inspection in accordance with paragraphs (g)(1) and (2) of this AD.

(h) Credit for Previous Actions

You may take credit for the actions required by paragraphs (g)(1) and (2) of this AD if you performed these actions before the effective date of this AD using Fiberglas-Technik Rudolf Lindner Anweisung/Instructions (A/I-G09), dated April 8, 2020.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j)(1) of this AD and email to: 9-AVS-AIR-730-AMOC@faa.gov.

(2) Before using any approved AMOC, notify your appropriate principal inspector, or lacking a principal inspector, the manager of the local flight standards district office/certificate holding district office.

(j) Related Information

(1) For more information about this AD, contact Jim Rutherford, Aviation Safety Engineer, General Aviation & Rotorcraft Section, International Validation Branch, FAA, 901 Locust, Room 301, Kansas City, MO 64106; phone: (816) 329-4165; email: jim.rutherford@faa.gov.

(2) Refer to European Union Aviation Safety Agency (EASA) AD 2020-0138, dated June 19, 2020, for more information. You may examine the EASA AD in the AD docket at https://www.regulations.gov by searching for and locating Docket No. FAA-2021-0944.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Fiberglas-Technik Rudolf Lindner Anweisung/Instructions (A/I-G09), Revision 1, dated May 14, 2020.

Note 1 to paragraph (k)(2)(i): This service information contains German to English translation. EASA used the English translation in referencing the document from Fiberglas-Technik Rudolf Lindner. For enforceability purposes, the FAA will cite the service information in English as it appears on the document.

(ii) [Reserved]

(3) For service information identified in this AD, contact Fiberglas-Technik Rudolf Lindner GmbH & Co. KG, Steige 3, D-88487 Walpertshofen, Germany; phone: +49 (0) 7353 22 43; email: info@LTB-Lindner.com; website: https://www.ltb-lindner.com.

(4) You may view this service information at FAA, Airworthiness Products Section, Operational Safety Branch, 901 Locust, Kansas City, MO 64106. For information on the availability of this material at the FAA, call (817) 222-5110.

(5) You may view this service information that is incorporated by reference at the National Archives and Records Administration (NARA). For information on the availability of this material at NARA, email: fr.inspection@nara.gov, or go to: https://www.archives.gov/federal-register/cfr/ibr-locations.html.

Issued on January 20, 2022.
Lance T. Gant,
Director, Compliance & Airworthiness Division, Aircraft Certification Service.

[FR Doc. 2022-02717 Filed 2-9-22; 8:45 am]

BILLING CODE 4910-13-P